DEPARTMENT OF THE INTERIOR

Bureau of Land Management

[NM-070-03-1230-EA]

Temporary Closure of Public Lands—Recreation Special Events: New Mexico, Farmington Field Office

AGENCY: Bureau of Land Management, Interior.

ACTION: Temporary closure of affected public lands in San Juan County.

SUMMARY: The Bureau of Land Management, Farmington Field Office (BLM), announces the temporary closure of selected public lands under its administration in San Juan County. This action is taken to provide for public and participant safety and to protect adjacent natural and cultural resources during the conduct of permitted special recreation events.

SUMMARY: The State Director, New Mexico State Office, announces the temporary closure of selected public lands under BLM administration. This action is taken to provide for public and participant safety and to protect adjacent natural and cultural resources during the conduct of permitted special recreation events.

EFFECTIVE DATES: March through December 2003. Events may be canceled or rescheduled at short notice.

FOR FURTHER INFORMATION CONTACT: Richard Simmons, Outdoor Recreation Planner, Farmington Field Office, Bureau of Land Management, 1235 La Plata Hwy, Suite A, Farmington, New Mexico 87410, telephone: (505) 599-6345.

SUPPLEMENTARY INFORMATION: This notice applies to closures on and adjacent to permitted special events including but not limited to: Motorized Off Highway Vehicle events, Mountain Bike races, and Horse Endurance competitive event sites and routes. Competitive events are conducted along dirt roads, trails, washes, and areas approved for such use through the Special Recreation Permit application process. Events occur from March through December 2003. Closure period is from 6 a.m. event day until event finish or until the event has cleared between affected Check Point locations; approximately 2 to 48 hour periods. The general public will be advised of each event and closure specifics via local newspapers and mailed public letters within seven (7) to thirty (30) days prior to the running of an event. Event maps and information will be posted at the Farmington Field Office.

Locations most commonly used for permitted events include, but are not limited to:

1. Glade Recreation Area—San Juan Co., T30-31N R12-13W.

2. Alien Run Mountain Bike Trail—San Juan Co.: T31N R10W.

3. The Rock Garden—San Juan Co.: T30-31N R9W.

4. Pinyon Mesa—San Juan Co.: T30N R13-14W.

5. Navajo Lake Horse Trails—San Juan Co.: T30N R7-8W.

6. The Dunes OHV Area—San Juan Co.: T29N R13W.

7. Head Canyon Motocross Track—San Juan Co.: T30N R13W.

8. Simon Canyon—San Juan Co.: T30-31N R8W.

9. Angel Peak Recreation Area—San Juan Co.: T26-27N R10W.

Marking and effect of closure. BLM lands to be temporarily closed to public use include the width and length of those roads, trails and routes identified as the route for the permitted event, identified by colored flagging, chalk arrows in the dirt, traffic cones, temporary barricades and/or directional arrows attached to wooden stakes; vehicle closures for the public in vendor areas and spectator viewing areas, identified with colored ribbon and signs; camping closures, except in such areas designated for camping by the BLM, identified with signs and colored ribbon and/or barricades, gates, cones, and fences. The authorized applicants or their representatives are required to post warning signs, control access to, and clearly mark the event routes and area during closure periods. Public uses generally affected by a Temporary Closure include: road and trail uses, camping, picnicking, parking, cross-country travel, and public land exploration.

Spectator and support vehicles may be driven in designated areas and routes only. Spectators may observe the races from specified locations as directed by event and agency officials.

Interested parties may obtain a map and schedule of each closure area at the contact address.

Exceptions. Closure restrictions do not apply to permittee, their employees, competitors, medical/rescue, law enforcement, Oil and Gas Industry employees doing day-to-day necessary service, and BLM personnel monitoring the event.

Authority: 43 CFR 8364.1 and 43 CFR part 2930.

Penalty. Any person failing to comply with the closure orders may be subject to imprisonment for not more than 12 months, or a fine in accordance with the applicable provisions of 18 U.S.C. 3571, or both.

Dated: March 7, 2003.
Linda Rundell,
New Mexico State Director.

[FR Doc. 03-9379 Filed 4-16-03; 8:45 am]

BILLING CODE 4310-BP-P